DEPARTMENT OF COMMERCE

National Institute of Standards and Technology

Discovery and Information Sharing Event Regarding Direct Realization of Mass

AGENCY: National Institute of Standards and Technology (NIST), Commerce.

ACTION: Notice.

SUMMARY: The National Institute of Standards and Technology (NIST) is providing a public opportunity to learn more about NIST efforts to develop a tabletop Kibble balance aimed at realizing mass [500 mg-20 g], with uncertainties of parts in 10⁶, and traceable to the new quantum International System of Units (SI). The two-hour virtual meeting will take place October 19, 2022, 11 a.m.-1 p.m. eastern time.

DATES: The workshop will be held on October 19, 2022, 11 a.m.-1 p.m. eastern time. Registration is not required but requested via email to Leon Chao at leon.chao@nist.gov.

ADDRESSES: The workshop will be held virtually via webinar. Participation information:

MS Teams Meeting Link:

Meeting ID: 236 220 981 414

Passcode: pV482e

Or call in (audio only):

+1 443-339-4347

Phone Conference ID: 206 869 111#

FOR FURTHER INFORMATION CONTACT: For questions about this workshop contact: Leon Chao, U.S. Department of Commerce, National Institute of Standards and Technology (NIST), 100 Bureau Drive, Gaithersburg, MD 20899, telephone: (301) 975-4763, email: leon.chao@nist.gov. Please direct media inquiries to NIST's Office of Public Affairs at (301) 975-2762.

SUPPLEMENTARY INFORMATION: The National Institute of Standards and Technology (NIST) is providing a public opportunity to learn more about NIST efforts to develop a tabletop Kibble balance aimed at realizing mass [500 mg-20 g], with uncertainties of parts in 106, and traceable to the new quantum International System of Units (SI). A first-generation prototype, KIBB-g1 (patented by NIST), has proven gram-level masses can be directly realized via a tabletop-sized, low complexity, affordable system. Several government agencies are collaborating with NIST to develop a second- generation model (provisional patent submitted).

NIST is inviting industry leaders in mass metrology and precision balance manufacturing, as well as other interested parties, to attend a two-hour virtual meeting to learn more about the next generation tabletop Kibble balance and opportunities for potential collaboration with NIST to advance this technology.

Authority: 15 U.S.C. 272(b) & (c).

Alicia Chambers,
NIST Executive Secretariat.

[FR Doc. 2022-22524 Filed 10-14-22; 8:45 am]

BILLING CODE 3510-13-P